FEDERAL ELECTION COMMISSION

Sunshine Act Meeting Notices

AGENCY: Federal Election Commission.

Previously Announced Date And Time: Thursday, April 7, 2005, 10 a.m. Meeting open to the public. This meeting was cancelled.

Date And Time: Tuesday, April 19, 2005 at 10 a.m.

Place: 999 E Street, NW., Washington, DC.

Status: This meeting will be closed to the public.

Items To Be Discussed: Compliance matters pursuant 2 U.S.C. 437g.

Audits conducted pursuant to 2 U.S.C. 437g, 438(b), and Title 26, U.S.C.

Matters concerning participation in civil actions or proceedings or arbitration.

Internal personnel rules and procedures or matters affecting a particular employee.

Date And Time: Thursday, April 21, 2005 at 10 a.m.

Place: 999 E Street, NW., Washington, DC (Ninth Floor).

Status: This meeting will be open to the public.

Items to be Discussed: Correction and Approval of Minutes.

Advisory Opinion 2005-02: Senator Jon Corzine and Corzine for Governor, Inc., by counsel, Marc E. Elias and Brian G. Svoboda.

Advisory Opinion 2005-03: American College of Obstetricians and Gynecologists, by counsel, Michael Kurman.

Routine Administrative Matters.

Person to Contact for Information: Mr. Robert Biersack, Press Officer, Telephone: (202) 694-1220.

Mary W. Dove,
Secretary of the Commission.

[FR Doc. 05-7533 Filed 4-11-05; 2:22 pm]

BILLING CODE 6715-01-M